DEPARTMENT OF TRANSPORTATION

Federal Aviation Administration

14 CFR Part 39

[Docket No. FAA-2004-19566; Directorate Identifier 2004-NM-72-AD]

RIN 2120-AA64

Airworthiness Directives; Airbus Model A300 B2 and A300 B4 Series Airplanes; and Model A300 B4-600, B4-600R, and F4-600R Series Airplanes, and Model C4-605R Variant F Airplanes (Collectively Called A300-600)

AGENCY: Federal Aviation Administration (FAA), DOT.

ACTION: Notice of proposed rulemaking (NPRM).

SUMMARY: The FAA proposes to adopt a new airworthiness directive (AD) for certain Airbus airplanes as listed above. This proposed AD would require repetitively inspecting for cracking in the web of nose rib 7 of the inner flap on the wings, and related investigative/corrective actions if necessary. This proposed AD is prompted by reports of cracking in the web of nose rib 7 of the inner flap. We are proposing this AD to detect and correct cracking in the web of nose rib 7, which could result in rupture of the attachment fitting between the inner flap and flap track no. 2, and consequent reduced structural integrity of the flap.

DATES: We must receive comments on this proposed AD by December 10, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19566; Directorate Identifier 2004-NM-72-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is on the plaza level of the Nassif Building at the DOT street address stated in the ADDRESSES section. Comments will be available in the AD docket shortly after the DMS receives them.

Discussion

The Direction Générale de l'Aviation Civile (DGAC), which is the airworthiness authority for France, notified us that an unsafe condition may exist on all Airbus Model A300 B2 and A300 B4 series airplanes; and Model A300 B4-600, B4-600R, and F4-600R series airplanes, and Model C4-605R Variant F airplanes (collectively called A300-600). The DGAC advises that two operators have found cracking in the web of nose rib 7 at flap track no. 2 of the inner flap. Cracking in this area, if not corrected, could result in rupture of the attachment fitting between the inner flap and flap track no. 2, and consequent reduced structural integrity of the flap.

Relevant Service Information

Airbus has issued Service Bulletins A300-57-0240 (for Model A300 B2 and B4 series airplanes) and A300-57-6095 (for Model A300 B4-600, B4-600R, and F4-600R series airplanes, and Model C4-605R Variant F airplanes (collectively called A300-600)), both including Appendix 01, and both dated April 7, 2003. These service bulletins describe procedures for performing an inspection using a borescope or endoscope to detect cracking of the vertical stiffeners of nose rib 7 of the inner flap of the left- and right-hand wings, and related investigative/corrective actions if necessary. The related investigative/corrective actions apply if any cracking is found and involve performing high-frequency eddy current inspections for cracking of the fastener holes of nose rib 7, performing a detailed visual inspection for cracking in the upper radii of the upper and lower skin flanges of the ribs and front spar of the wing, and replacing nose rib 7 with a new, improved nose rib. If any cracking is found during the related investigative actions, the service bulletin specifies to contact Airbus. Accomplishing the actions specified in the service information is intended to adequately address the unsafe condition. The DGAC mandated the service information and issued French airworthiness directive 2003-410(B), dated October 29, 2003, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for products of this type design that are certificated for operation in the United States.

Therefore, we are proposing this AD, which would require you to do the actions specified in the service information described previously, except as discussed under “Differences Among the Proposed AD, Service Information, and French Airworthiness Directive.”

Differences Among the Proposed AD, Service Information, and French Airworthiness Directive

The service information specifies that you may contact the manufacturer for instructions on how to repair certain conditions, but this proposed AD would require you to repair those conditions using a method that we or the DGAC (or its delegated agent) approve. In light of the type of repair that would be required to address the unsafe condition, and consistent with existing bilateral airworthiness agreements, we have determined that, for this proposed AD, a repair we or the DGAC approve would be acceptable for compliance with this proposed AD.

Unlike the procedures described in the service information, this proposed AD would not permit further flight if any crack is detected in nose rib 7 of the inner flap. We have determined that, because of the safety implications and consequences associated with that cracking, all applicable related investigative/corrective actions must be done before further flight after the crack finding.

The service information and the French airworthiness directive specify reporting inspection findings to Airbus. This proposed AD would not require that action.

Costs of Compliance

This proposed AD would affect about 143 airplanes of U.S. registry. The proposed actions would take about 2 work hours per airplane, at an average labor rate of $65 per work hour. Based on these figures, the estimated cost of the proposed AD for U.S. operators is $18,590, or $130 per airplane, per inspection cycle.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-19566; Directorate Identifier 2004-NM-72-AD.

Comments Due Date

(a) The Federal Aviation Administration must receive comments on this AD action by December 10, 2004.

Affected ADs

(b) None.

Applicability

(c) This AD applies to all Airbus Model A300 B2 and A300 B4 series airplanes; and Model A300 B4-600, B4-600R, and F4-600R series airplanes, and Model C4-605R Variant F airplanes (collectively called A300-600); certificated in any category.

Unsafe Condition

(d) This AD was prompted by reports of cracking in the web of nose rib 7 of the inner flap. We are issuing this AD to detect and correct cracking in the web of nose rib 7, which could result in rupture of the attachment fitting between the inner flap and flap track no. 2, and consequent reduced structural integrity of the flap.

Compliance

(e) You are responsible for having the actions required by this AD performed within the compliance times specified, unless the actions have already been done.

Service Bulletin Reference

(f) The term “service bulletin,” as used in this AD, means the Accomplishment Instructions of the service bulletin in paragraph (f)(1) or (f)(2) of this AD, as applicable. These service bulletins specify to submit certain information to the manufacturer, but this AD does not include that requirement.

(1) For Model A300 B2 and B4 series airplanes: Airbus Service Bulletin A300-57-0240, including Appendix 01, dated April 7, 2003.

(2) For Model A300 B4-600, B4-600R, and F4-600R series airplanes, and Model C4-605R Variant F airplanes (collectively called A300-600): Airbus Service Bulletin A300-57-6095, including Appendix 01, dated April 7, 2003.

Inspections

(g) Do an inspection, using a borescope or endoscope, for cracking of the vertical stiffeners of nose rib 7 of the inner flap of the left- and right-hand wings in accordance with the Accomplishment Instructions of the service bulletin. Do the initial inspection at the applicable compliance time specified in paragraph (g)(1) or (g)(2) of this AD.

(1) For airplanes with 18,599 or fewer total flight cycles as of the effective date of this AD: Prior to the accumulation of 5,000 total flight cycles, or within 1,000 flight cycles after the effective date of this AD, whichever is later.

(2) For airplanes with 18,600 or more total flight cycles as of the effective date of this AD: Within 500 flight cycles after the effective date of this AD.

Repetitive Inspections

(h) If no cracking is found during the inspection required by paragraph (g) of this AD: Repeat the inspection at intervals not to exceed 1,000 flight cycles.

Related Investigative/Corrective Actions

(i) If any cracking is found during any inspection required by paragraph (g) or (h) of this AD: Before further flight, accomplish all related investigative and corrective actions specified in the Accomplishment Instructions of the service bulletin, except as provided by paragraph (j) of this AD. Within 5,000 flight cycles after doing the repair specified in the service bulletin, do the inspection in paragraph (g) of this AD, and thereafter, repeat the inspection, as applicable, at intervals not to exceed 1,000 flight cycles.

(j) If any cracking is found for which the service bulletin specifies to contact Airbus: Before further flight, repair per a method approved by either the Manager, International Branch, ANM-116, FAA, Transport Airplane Directorate; or the Direction Générale de l'Aviation Civile (or its delegated agent).

Alternative Methods of Compliance (AMOCs)

(k) The Manager, International Branch, ANM-116, has the authority to approve AMOCs for this AD, if requested in accordance with the procedures found in 14 CFR 39.19.

Related Information

(l) French airworthiness directive 2003-410(B), dated October 29, 2003, also addresses the subject of this AD.

Issued in Renton, Washington, on November 1, 2004.
Kalene C. Yanamura,
Acting Manager, Transport Airplane Directorate, Aircraft Certification Service.

[FR Doc. 04-25030 Filed 11-9-04; 8:45 am]

BILLING CODE 4910-13-P